DEPARTMENT OF JUSTICE

Federal Bureau of Prisons

Notice of Intent To Prepare a Draft Environmental Impact Statement for the Proposed Federal Correctional Institution and Federal Prison Camp in Letcher County, Kentucky

AGENCY: Federal Bureau of Prisons, U.S. Department of Justice.

ACTION: Notice of intent to prepare a Draft Environmental Impact Statement for the Proposed Federal Correctional Institution and Federal Prison Camp in Letcher County, Kentucky.

SUMMARY: Pursuant to the National Environmental Policy Act (NEPA) of 1969, as implemented by the Council on Environmental Quality and Federal Bureau of Prisons (Bureau) regulations, the Bureau announces its intent to prepare a Draft Environmental Impact Statement (DEIS) for the “Proposed Federal Correctional Institution and Federal Prison Camp Letcher County, Kentucky.”

SUPPLEMENTARY INFORMATION:

Background

The Bureau's mission is to protect society by confining offenders in the controlled environments of prisons and community-based facilities that are safe, humane, cost-efficient, appropriately secure, and provide work and other self-improvement opportunities to assist offenders in becoming law-abiding citizens. A growing challenge to successfully performing that mission is the increasing number of federal correctional facilities and supporting infrastructure that were constructed over 50 years ago (the approximate design life of such facilities), resulting in a continuous need to maintain existing facilities, and when necessary, develop new facilities and infrastructure.

To address the need for modern, efficient, and cost-effective institutions, the Bureau is proposing to construct and operate a new medium-security Federal Correctional Institution (FCI) and an adjoining minimum-security Federal Prison Camp (FPC) in Letcher County, Kentucky. The FCI and FPC would be designed to house approximately 1,152 adult males and 256 adult males, respectively, and serve the needs of the Bureau's Mid-Atlantic Region.

Compliance With the National Environmental Policy Act

Development and operation of a new FCI and FPC is considered to be an action potentially significantly affecting the quality of the human environment. Therefore, the Bureau must comply with NEPA to ensure that the environmental consequences of such a federal action are adequately considered. This DEIS will be prepared to ensure that the potential environmental impacts associated with the proposed action are thoroughly documented and that compliance is achieved with NEPA as well as with other environmental statutes including but not limited to: the Coastal Zone Management Act of 1972; the Clean Air Act of 1974; the Clean Water Act and Amendments, the Endangered Species Act of 1973 (ESA); the National Historic Preservation Act (NHPA) of 1966; and the Farmland Protection Policy Act (FPPA), among other laws, regulations and Executive Orders.

Preparation of environmental documentation and its consideration by federal, state, and local officials, regulatory agencies, stakeholders, and the public will be carried out to demonstrate that the Bureau understands and fully considers the potential environmental impacts associated with the proposed action. This includes consideration to the potential impacts associated with correctional institution construction and operation and attainment of the project's objectives.

In 2006, Congress authorized and directed the Bureau to initiate various investigations for development of a new federal correctional facility in Letcher County. In accordance with Congress' directive, the Bureau conducted a wide range of technical investigations and studies and published multiple EISs in conformance with NEPA as summarized below.

Date | Title | Description
2006 | Congressional authorization | Bureau directed to undertake planning for a new high-security United States Penitentiary (USP) in Letcher County, Kentucky.
July 2013 | Notice of Intent to Prepare a Draft Environmental Impact Statement | Published notice of the Bureau's intent to prepare a DEIS for development of a USP and FPC on properties located in Letcher County, Kentucky. The proposed sites subjected to study consisted of non-Bureau properties located near the City of Whitesburg.
August 2013 | Public Scoping Meeting Held | Held a public scoping meeting to inform the public about the proposed project and to explain NEPA and the associated environmental impact analysis.
February 2015 | Draft Environmental Impact Statement | Evaluated potential impacts to the natural and man-made environments resulting from development and operation of a proposed USP and FPC at two alternative sites in Letcher County: Alternative 1—Payne Gap Site and Alternative 2—Roxana Site.
March 2015 | DEIS Public Meeting Held | Held a public meeting to seek public input and comments concerning the proposed project and DEIS analysis.
July 2015 | Final Environmental Impact Statement | Evaluated potential impacts to the natural and man-made environments resulting from development and operation of a proposed USP and FPC at two alternative sites in Letcher County: Alternative 1—Payne Gap Site and Alternative 2—Roxana Site. Identified the Roxana Site as the preferred alternative for development and operation of new facilities as best meeting the project goals and objectives and, on balance, would have fewer impacts to the environment. The FEIS included updated information contained in DEIS and responded to public comments received concerning the DEIS.
March 2016 | Revised Final Environmental Impact Statement | Superseded the FEIS published in July 2015, which was withdrawn after consideration of comments received following its publication and to address inconsistencies in the FEIS.
November 2016 | Notice of Intent to Prepare a Supplemental Revised Final Environmental Impact Statement | Provided notice of the Bureau's intent to prepare a Supplement to the Revised FEIS for the proposed USP and FPC in Letcher County. Preparation of the Supplement was necessary to address changes in the proposed action and new circumstances or information relevant to potential environmental impacts including a reduction in available land area of the Roxana Site necessitating changes to the facilities layout evaluated for Alternative 2—Roxana Site.
March 2017 | Draft Supplemental Revised Final Environmental Impact Statement | Draft Supplemental Revised FEIS incorporated by reference and expanded upon the analyses presented in the Revised FEIS. The Draft Supplement addressed new circumstances or information relevant to potential environmental impacts. Specifically, a reduction in available land area of the Roxana Site necessitated modifying the facilities layout evaluated for Alternative 2—Roxana Site in the Revised FEIS which identified Modified Alternative 2—Roxana Site as the preferred alternative.
September 2017 | Final Supplemental Revised Final Environmental Impact Statement | Evaluated potential impacts to the natural and man-made environments resulting from development and operation of a proposed USP and FPC at two alternative sites in Letcher County. Identified Modified Alternative 2—Roxana Site as the preferred alternative. Incorporated by reference and built upon the analyses presented in the Revised FEIS. Addressed changes in the proposed action and assessed new circumstances or information relevant to potential environmental impacts.
March 2018 | Record of Decision | Director of the Federal Bureau of Prisons selected Modified Alternative 2—Roxana Site for land acquisition and development of a USP and FPC in Letcher County. The decision was made following consideration of potential environmental consequences, agency and public comments, Bureau operational, security, and management needs, and after being apprised of material in the DEIS, FEIS, Revised FEIS, and Draft and Final Supplemental Revised FEISs. Record of Decision (ROD) published to document the Bureau's decision with respect to the environmental review process.
July 2019 | Withdrawal of Record of Decision | Acting Director of the Federal Bureau of Prisons withdraws the ROD based on new information, which may be relevant to the environmental analysis for the proposed action, in order to evaluate the new information more fully.
September 2022 | Notice of Intent to Prepare a Draft Environmental Impact Statement | Notice of the Bureau's intent to prepare a DEIS for development of a medium-security FCI and FPC at alternative locations in Letcher County, Kentucky. The proposed sites to be examined consist of non-Bureau properties located near the City of Whitesburg.

While the Congressional directive to the Bureau to develop a new USP in Letcher County remains, the Bureau has been reevaluating the proposed project since the Record of Decision was withdrawn. During that time, the Bureau determined that the need to house medium-security inmates in a new FCI supersedes the need to house high-security inmates in a new USP. Design, construction, and operation of a high-security USP differs greatly from a medium-security FCI with the potential environmental impacts of its development and operation correspondingly different.

Consistent with the guidance provided in 40 CFR 1502.9, the DEIS will address “substantial changes in the proposed action that are relevant to environmental concerns or if there are significant new circumstances or information relevant to environmental concerns and bearing on the proposed action or its impacts.” As a result of the change of scope in the proposed action (development of a medium-security FCI vs a high-security USP), planning for a new FCI and FPC was initiated April 2022. The Bureau will soon undertake a new evaluation and analysis in accordance with NEPA and the Bureau's NEPA implementing regulations to be documented within a new DEIS.

Publication of the Notice of Intent to Prepare a DEIS for development of a new FCI and FPC in Letcher County, Kentucky initiates a scoping period lasting for 30 days from the date of publication of this Notice of Intent in the Federal Register. A similar notice inviting federal, state, county, and local agencies, officials, organizations, and the public to participate in the scoping and DEIS study process will also published in local newspapers.

The DEIS will analyze potential environmental impacts that may result from the proposed action including, but not limited to, land use and zoning; topography, geology, and soils; air quality; noise; cultural resources; water resources; and biological resources. The DEIS analysis will also evaluate direct, indirect, and cumulative impacts. Relevant and reasonable measures that could avoid or mitigate environmental impacts will also be analyzed. Additionally, the Bureau will undertake any consultations required by applicable laws or regulations.

The Bureau will issue the DEIS for a 45-day public comment period, during which time a public meeting will be held. A notice of availability of the DEIS and a notice of public meeting will be published in the Federal Register and in area newspapers in advance of the release of the DEIS and the public meeting. Those notices will identify further details about the public meeting, the means to view a copy of the DEIS, and the specific opportunities and methods for the public to provide comments on the proposed action and DEIS. Anyone wishing to receive notifications regarding the proposed project and DEIS are requested to contact the Bureau's Site Selection Specialist at the address shown below.

Following issuance of the DEIS and completion of the 45-day public comment period on the DEIS, the Bureau will issue a Final EIS (FEIS) that will include comments received during the public comment period on the DEIS. The FEIS will also include the Bureau's response to substantive comments received on the DEIS. Following publication of the FEIS, a 30-day review period will be provided. No action will be taken to implement any of the proposed alternatives until completion of the 30-day review period on the FEIS and issuance of a Record of Decision by the Director of the Bureau.

Contact

Questions concerning the proposed action and the DEIS may be directed to Kimberly S. Hudson, COR, Site Selection Specialist, Construction & Environmental Review Branch, U.S. Department of Justice, Federal Bureau of Prisons, 320 First Street NW, Room 901-5 West, Washington, DC 20534; email: kshudson@bop.gov or by visiting the project website at: https://www.proposed-fci-letchercountyky.com.

Dated: September 28, 2022.
Kimberly S. Hudson,
Site Selection Specialist, Construction & Environmental Review Branch.

[FR Doc. 2022-20795 Filed 9-27-22; 8:45 am]

BILLING CODE P